DEPARTMENT OF VETERANS AFFAIRS

Advisory Committee on Former Prisoners of War, Notice of Meeting

The Department of Veterans Affairs (VA) gives notice under the Federal Advisory Committee Act, 5 U.S.C. ch. 10., that the Advisory Committee on Former Prisoners of War (Committee) will conduct a virtual meeting on December 4, 2024. Public participation will commence as follows:

Date | Time | Location | Open session
December 4, 2024 | 11 a.m.-5 p.m. eastern standard time (EST) | Microsoft TEAMS Link and Call-in Information Below | Yes.

The meeting session is open to the public.

The purpose of the Committee is to advise the Secretary of VA on the administration of benefits under title 38 U.S.C., for Veterans who are former prisoners of war (FPOW) and the needs of these Veterans, in the areas of compensation, health care, and rehabilitation.

The Committee will assemble in open session for discussion and briefings from VA Central Office and Veterans Benefits Administration officials who will provide updates on issues impacting FPOW Veterans and their families.

Time will be allocated at this session to receive oral presentation from the public. The comment period will be at 3:45 p.m.-4:15 p.m. EST, and the public will be afforded three to five minutes to express their comments. Any member of the public may submit a 1-2-page commentary for the Committee's review.

Any member of the public wishing to virtually attend or seeking additional information should contact, Julian Wright, Designated Federal Officer, VA, Advisory Committee on FPOW at Julian.Wright2@va.gov no later than November 29, 2024. Any member of the public who wishes to participate in the virtual meeting may use the following Microsoft Teams Meeting Link:

Join On Your Computer or Mobile App: https://teams.microsoft.com/l/meetup-join/19%3ameeting_NDA3YzRkNmItZWY0Ni00NmQwLWFhNGItODlmNTUwZmQyOTk3%40thread.v2/0?context=%7b%22Tid%22%3a%22e95f1b23-abaf-45ee-821d-b7ab251ab3bf%22%2c%22Oid%22%3a%22b857b6c6-44d8-46b4-8041-6e7d50b9890a%22%7d.

You can dial 872-701-0185 and enter the access code below.

Access code: 158 370 812#.

Dated: November 6, 2024.
Jelessa M. Burney,
Federal Advisory Committee Management Officer.

[FR Doc. 2024-26136 Filed 11-8-24; 8:45 am]

BILLING CODE 8320-01-P